Proclamation 8601 of November 15, 2010

America Recycles Day, 2010

By the President of the United States of America

A Proclamation

Each small act of conservation, when combined with other innumerable deeds across the country, can have an enormous impact on the health of our environment. On America Recycles Day, we celebrate the individuals, communities, local governments, and businesses that work together to recycle waste and develop innovative ways to manage our resources more sustainably.

Americans already take many steps to protect our planet, participating in curbside recycling and community composting programs, and expanding their use of recyclable and recycled materials. Recycling not only preserves our environment by conserving precious resources and reducing our carbon footprint, but it also contributes to job creation and economic development. This billion-dollar industry employs thousands of workers nationwide, and evolving our recycling practices can help create green jobs, support a vibrant American recycling and refurbishing industry, and advance our clean energy economy.

While we can celebrate the breadth of our successes on America Recycles Day, we must also recommit to building upon this progress and to drawing attention to further developments, including the recycling of electronic products. The increased use of electronics and technology in our homes and society brings the challenge of protecting human health and the environment from potentially harmful effects of the improper handling and disposal of these products. Currently, most discarded consumer electronics end up in our landfills or are exported abroad, creating potential health and environmental hazards and representing a lost opportunity to recover valuable resources such as rare earth minerals.

To address the problems caused by electronic waste, American businesses, government, and individuals must work together to manage these electronics throughout the product lifecycle—from design and manufacturing through their use and eventual recycling, recovery, and disposal. To ensure the Federal Government leads as a responsible consumer, my Administration has established an interagency task force to prepare a national strategy for responsible electronics stewardship, including improvements to Federal procedures for managing electronic products. This strategy must also include steps to ensure electronics containing hazardous materials collected for recycling and disposal are not exported to developing nations that lack the capacity to manage the recovery and disposal of these products in ways that safeguard human health and the environment.

On America Recycles Day, let us respond to our collective responsibility as a people and a Nation to be better stewards of our global environment, and to pass down a planet to future generations that is better than we found it.

NOW, THEREFORE, I, BARACK OBAMA, President of the United States of America, by virtue of the authority vested in me by the Constitution and the laws of the United States, do hereby proclaim November 15, 2010, as America Recycles Day. I call upon the people of the United States to observe this day with appropriate programs and activities, and I encourage all Americans to continue their recycling efforts throughout the year.

IN WITNESS WHEREOF, I have hereunto set my hand this fifteenth day of November, in the year of our Lord two thousand ten, and of the Independence of the United States of America the two hundred and thirty-fifth.

[FR Doc. 2010-29455

Filed 11-18-10; 11:15 am]

Billing code 3195-W1-P